DEPARTMENT OF HEALTH AND HUMAN SERVICES

Centers for Disease Control and Prevention

[30Day-10-10AD]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

School Dismissal Monitoring System—New—National Center for Preparedness, Detection, and Control of Infectious Diseases (NCPDCID), Centers for Disease Control and Prevention (CDC).

Background and Brief Description

During the spring 2009 H1N1 outbreak, the U.S. Department of Education (ED) and the Centers for Disease Control and Prevention (CDC) received numerous daily requests about the overall number of school dismissals nationwide including the number of students and teachers impacted by the outbreak. Illness among school-aged students (K-12) in many states and cities resulted in at least 1351 school dismissals due to rapidly increasing absenteeism among students or staff that impacted at least 824,966 students and 53,217 teachers.

Although a system was put in place to track school closures in conjunction with the Department of Education (ED), no formal monitoring system was established, making it difficult to monitor reports of school dismissal and to gauge the impact of the outbreak.

CDC has recently issued guidance for school closure for the 2009-2010 school year. To address the need to monitor reports of school closure, CDC and ED have established a School Dismissal Monitoring System to report on novel influenza A (H1N1)-related school or school district dismissals in the United States. Although the School Dismissal Monitoring System is currently approved to collect data under OMB Control Number 0920-0008, Emergency Epidemic Investigations, CDC would like to continue the data collection long term. Thus, CDC is requesting a separate OMB Control Number for this data collection.

The purpose of the School Dismissal Monitoring System is to generate accurate, real-time, national summary data daily on the number of school dismissals and the number of students and teachers impacted by the school dismissals. CDC will use the summary data to fully understand how schools are responding to CDC community mitigation guidance among schools, students, household contacts and for overall awareness of the impact of influenza outbreaks on school systems and communities.

Respondents are schools, school districts, and local public health agencies. Respondents will use a common reporting form to submit data to CDC. The reporting form includes the following data elements: Name of school district; zip code of school district; date the school or school district was dismissed; and the date school or school district is projected to reopen. Optional data elements include: name of person submitting information; the organization/agency; phone number of the organization/agency; and e-mail address. There is no cost to respondents other than their time to complete the data collection. The total annualized burden for this information collection request is 42 hours.

Estimate of Annualized Burden Hours
Respondent | Number of respondents | Responses per respondent | Average burden per respondent (in hours)
School, school district or public health department | 500 | 1 | 5/60

Dated: February 24, 2010.
Maryam I. Daneshvar,
Reports Clearance Officer, Centers for Disease Control and Prevention.

[FR Doc. 2010-4177 Filed 2-26-10; 8:45 am]

BILLING CODE 4163-18-P